DEPARTMENT OF TRANSPORTATION

Surface Transportation Board

[STB Finance Docket No. 34901]

Hondo Railway, LLC—Lease an Operation Exemption—in Medina County, TX

Hondo Railway, LLC (HRC), a Class rail carrier, has filed a verified notice of exemption under 49 CFR 1150.31-34, to lease and operate over approximately 13,200 feet of track in and adjacent to terminal facilities in the vicinity of Hondo, Medina County, TX. The track is owned by South Texas Liquid Terminal, Inc., a non-carrier, and will be leased by HRC.

HRC certifies that its projected revenues as a result of the transaction will not result in the creation of a Class II or Class I rail carrier, and further certifies that its projected annual revenues will not exceed $5 million. The transaction was scheduled to be consummated on or after July 27, 2006.

If the verified notice contains false or misleading information, the exemption is void ab initio. Petitions to revoke the exemption under 49 U.S.C. 0502(d) may be filed at any time. The filing of a petition to revoke will not automatically stay the transaction.

An original and 10 copies of all pleadings, referring to STB Finance Docket No. 34901, must be filed with the Surface Transportation Board, 1925 K Street, NW., Washington, DC 20423-0001. In addition, a copy of each pleading must be served on Kelvin J. Dowd, 1224 Seventeenth Street, NW., Washington, DC 20036.

Board decisions and notices are available on our Web site at http://www.stb.dot.gov.

Decided: August 9, 2006.
By the Board, David M. Konschnik, Director, Office of Proceedings.
Vernon A. Williams,
Secretary.

[FR Doc. E6-13456 Filed 8-15-06; 8:45 am]

BILLING CODE 4915-01-P